DEPARTMENT OF COMMERCE

International Trade Administration

[A-489-501]

Certain Welded Carbon Steel Pipe and Tube From Turkey: Notice of Recision of Antidumping Duty Administrative Review

AGENCY: Import Administration, International Trade Administration, Department of Commerce.

ACTION: Notice of recision of antidumping duty administrative review.

EFFECTIVE DATE: July 19, 2001.

SUMMARY: On June 19, 2001, the Department of Commerce (the Department) published in the Federal Register (66 FR 32934) a notice announcing the initiation of an administrative review of the antidumping duty order on certain welded carbon steel pipe and tube from Turkey, covering the period May 1, 2000 through April 30, 2001, and one manufacturer/exporter of the subject merchandise, the Borusan Group. We are now rescinding this review as a result of the respondent's withdrawal of its request for an administrative review.

FOR FURTHER INFORMATION CONTACT: Charles Riggle at (202) 482-0650 or David Layton at (202) 482-0371, Import Administration, Room 1870, International Trade Administration, U.S. Department of Commerce, 14th Street and Constitution Avenue, NW, Washington, DC 20230.

SUPPLEMENTARY INFORMATION:

The Applicable Statute And Regulations

Unless otherwise indicated, all citations to the statute are references to the provisions effective January 1, 1995, the effective date of the amendments made to the Tariff Act of 1930 (the Act) by the Uruguay Round Agreements Act (URAA). In addition, unless otherwise indicated, all citations to Department of Commerce (the Department) regulations refer to the regulations codified at 19 CFR part 351 (April 2000).

Background

On May 31, 2001, the Borusan Group, in accordance with 19 CFR 351.213(b), requested an administrative review of the antidumping duty order on certain welded carbon steel pipe and tube from Turkey. On June 19, 2001, in accordance with 19 CFR 351.221(c)(1)(i), we initiated an administrative review of this order for the period May 1, 2000 through April 30, 2001 (66 FR 32934, June 19, 2001). On June 20, 2001, the Borusan Group withdrew its request for this review.

Recision of Review

The Department's regulations at 19 CFR 351.213(d)(1) provide that the Department will rescind an administrative review if the party that requested the review withdraws its request for review within 90 days of the date of publication of the notice of initiation of the requested review, or withdraws its request at a later date if the Department determines that it is reasonable to extend the time limit for withdrawing the request. The Borusan Group withdrew its request for review within the 90-day period. Accordingly, this review is rescinded. This determination is issued and published in accordance with section 751 of the Act (19 U.S.C. 1675) and 19 CFR 351.213(d)(4).

July 12, 2001.
Bernard T. Carreau,
Deputy Assistant Secretary for Import Administration.

[FR Doc. 01-18124 Filed 7-18-01; 8:45 am]

BILLING CODE 3510-DS-P